DEPARTMENT OF COMMERCE

National Oceanic and Atmospheric Administration

50 CFR Part 648

[Docket No. 040112010-4114-02; I.D. 122203A]

RIN 0648-AN17

Magnuson-Stevens Fishery Conservation and Management Act Provisions; Fisheries of the Northeastern United States; Northeast (NE) Multispecies Fishery; Amendment 13

Correction

In rule document 04-8884 beginning on page 22906 in the issue of Tuesday, April 27, 2004, make the following correction:

§ 648.85 [Corrected]

On page 22975, in § 648.85, in the second column, the table titled “EASTERN U.S./CANADA AREA” is corrected in part to read as follows:

Eastern U.S./Canada Area
Point | N. lat. | W. long.
* * * | * | *
USCA 15 | 40° 30′ | 66° 40′
USCA 14 | 40° 30′ | 65° 44.3′
* * * | * | *

[FR Doc. C4-8884 Filed 7-6-04; 8:45 am]

BILLING CODE 1505-01-D